DEPARTMENT OF ENERGY

Federal Energy Regulatory Commission

Combined Notice of Filings #1

Take notice that the Commission received the following exempt wholesale generator filings:

Docket Numbers: EG12-35-000.

Applicants: Stephentown Spindle, LLC.

Description: Notice of Self-Certification as an Exempt Wholesale Generator of Stephentown Spindle, LLC.

Filed Date: 2/29/12.

Accession Number: 20120229-5099.

Comments Due: 5 p.m. ET 3/21/12.

Take notice that the Commission received the following electric rate filings:

Docket Numbers: ER10-2025-001; ER11-4655-001.

Applicants: Louis Dreyfus Energy Services L.P., Rensselaer Cogeneration LLC.

Description: Notice of Change in Status of Louis Dreyfus Energy Services L.P., et al.

Filed Date: 2/29/12

Accession Number: 20120229-5126.

Comments Due: 5 p.m. ET 3/21/12.

Docket Numbers: ER10-2776-003.

Applicants: Wells Fargo Commodities, LLC.

Description: Notice of Non-Material Change in Status of Wells Fargo Commodities, LLC.

Filed Date: 2/29/12.

Accession Number: 20120229-5079.

Comments Due: 5 p.m. ET 3/21/12.

Docket Numbers: ER12-458-003.

Applicants: Quantum Choctaw Power, LLC.

Description: Quantum Choctaw Power Compliance Filing—Clone—Clone to be effective 2/14/2012.

Filed Date: 2/29/12

Accession Number: 20120229-5073.

Comments Due: 5 p.m. ET 3/21/12.

Docket Numbers: ER12-513-001.

Applicants: PJM Interconnection, L.L.C.

Description: Compliance Filing per 1/30/2012 Order in ER12-513 to be effective 1/31/2012 to be effective 1/31/2012.

Filed Date: 2/28/12.

Accession Number: 20120228-5145.

Comments Due: 5 p.m. ET 3/20/12.

Docket Numbers: ER12-513-002.

Applicants: PJM Interconnection, L.L.C.

Description: Compliance Filing per 1/30/2012 Order in ER12-513 to be effective 6/30/2012 to be effective 6/30/2012.

Filed Date: 2/28/12.

Accession Number: 20120228-5171.

Comments Due: 5 p.m. ET 3/20/12.

Docket Numbers: ER12-1085-001.

Applicants: Florida Power & Light Company.

Description: FPL Amendment to Schedule 10 re Offer of Settlement and Agreement to be effective 10/1/2011.

Filed Date: 2/21/12.

Accession Number: 20120221-5274.

Comments Due: 5 p.m. ET 3/13/12.

Docket Numbers: ER12-1174-000.

Applicants: Cross Border Energy LLC.

Description: Baseline Tariff to be effective 11/21/2009.

Filed Date: 2/29/12.

Accession Number: 20120229-5080.

Comments Due: 5 p.m. ET 3/21/12.

Docket Numbers: ER12-1175-000.

Applicants: Midwest Independent Transmission System Operator, Inc.

Description: Request for Waiver of Midwest Independent Transmission System Operator, Inc.

Filed Date: 2/23/12.

Accession Number: 20120223-5120.

Comments Due: 5 p.m. ET 3/15/12.

Take notice that the Commission received the following electric securities filings:

Docket Numbers: ES12-24-000

Applicants: AEP Appalachian Transmission Company, Inc., AEP Indiana Michigan Transmission Company, Inc., AEP Kentucky Transmission Company, Inc., AEP Oklahoma Transmission Company, Inc., AEP Southwestern Transmission Company, Inc., AEP West Virginia Transmission Company, Inc.

Description: Application under Section 204 of the Federal Power Act of AEP Appalachian Transmission Company, Inc., et al for Authorization to Issue Securities.

Filed Date: 2/28/12.

Accession Number: 20120228-5199.

Comments Due: 5 p.m. ET 3/20/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 29, 2012.
Nathaniel J. Davis, Sr.,
Deputy Secretary.

[FR Doc. 2012-5479 Filed 3-6-12; 8:45 am]

BILLING CODE 6717-01-P